DEPARTMENT OF COMMERCE

International Trade Administration

[A-520-803]

Polyethylene Terephthalate Film, Sheet and Strip From the United Arab Emirates: Partial Rescission of Antidumping Duty Administrative Review; 2015-2016

AGENCY: Enforcement and Compliance, International Trade Administration, Department of Commerce.

DATES: Effective May 16, 2017.

FOR FURTHER INFORMATION CONTACT: Andrew Huston, Office VII, Antidumping and Countervailing Duty Operations, Enforcement and Compliance, International Trade Administration, U.S. Department of Commerce, 1401 Constitution Avenue NW., Washington, DC 20230; telephone: (202) 482-4261.

Background

On November 4, 2016, the Department of Commerce (the Department) published a notice of opportunity to request an administrative review of the antidumping duty (AD) order on polyethylene terephthalate film, sheet and strip from the United Arab Emirates covering the period November 1, 2015, through October 31, 2016.¹ The Department received a timely request from the petitioners ² for an AD administrative review of two companies: JBF RAK LLC (JBF) and Flex Middle East FZE (Flex).³ In addition, Polyplex USA LLC (Polyplex), a domestic interested party, submitted a timely request for an AD review of JBF and Uflex Limited (Uflex).⁴ JBF submitted a timely request for an AD review of itself.⁵ On January 13, 2017, pursuant to the requests from interested parties, the Department published a notice of initiation of administrative review with respect to Flex, Uflex, and JBF.⁶ On April 13, 2017, the petitioners withdrew their requests for reviews of JBF and Flex.⁷

¹ See Antidumping or Countervailing Duty Order, Finding, or Suspended Investigation; Opportunity To Request Administrative Review, 81 FR 76920 (November 4, 2016).

² DuPont Teijin Films, Mitsubishi Polyester Film, Inc., and SKC, Inc.

³ See Petitioners' letter, “Polyethylene Terephthalate Film, Sheet, and Strip from United Arab Emirates: Request for Antidumping Duty Administrative Review,” dated November 30, 2016.

⁴ See letter from Polyplex USA LLC, “Polyethylene Terephthalate (PET) Film, Sheet, and Strip from United Arab Emirates: Request for Review,” dated November 22, 2016.

⁵ See JBF's letter, “JBF RAK LLC/Request forA/D Administrative Review: Polyethylene Terephthalate Film, Sheet, and Strip from United Arab Emirates (A-520-803),” dated November 30, 2016.

⁶ See Initiation of Antidumping and Countervailing Duty Administrative Reviews, 82 FR 4294 (January 13, 2017).

⁷ See Petitioners' letter “Withdrawal of Request for Antidumping Duty Administrative Review,” dated April 13, 2017.

Rescission in Part

Pursuant to 19 CFR 351.213(d)(1), the Secretary will rescind an administrative review, in whole or in part, if a party that requested the review withdraws the request within 90 days of the date of publication of the notice of initiation of the requested review. The Department initiated the instant review on January 13, 2017 and the petitioners withdrew their request on April 13, 2017, which is within the 90-day period and is thus timely. Because the petitioners' withdrawal of their requests for review is timely and because no other party requested a review of Flex, we are rescinding this review, in part, with respect to Flex, in accordance with 19 CFR 351.213(d)(1). Polyplex did not withdraw its request for review of JBF and Uflex, and JBF did not withdraw its request for review of itself. As such, the instant review will continue with respect to Uflex and JBF.

Assessment

The Department will instruct U.S. Customs and Border Protection (CBP) to assess anti-dumping duties on all appropriate entries. Subject merchandise of Flex will be assessed antidumping duties at rates equal to the cash deposit of estimated antidumping duties required at the time of entry, or withdrawal from warehouse, for consumption, during the period November 1, 2015, through October 31, 2016, in accordance with 19 CFR 351.212(c)(1)(i). The Department intends to issue assessment instructions to CBP 15 days after the date of publication of this notice.

Notification to Importers

This notice serves as a reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent increase in the amount of antidumping duties assessed.

Notification Regarding Administrative Protective Orders

This notice also serves as a final reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with section 751(a)(1) and 777(i)(1) of the Tariff Act of 1930, as amended, and 19 CFR 351.213(d)(4).

Dated: May 11, 2017.
James Maeder,
Senior Director, Antidumping and Countervailing Duty Operations.

[FR Doc. 2017-09873 Filed 5-15-17; 8:45 am]

BILLING CODE 3510-DS-P